ENVIRONMENTAL PROTECTION AGENCY

40 CFR Part 81

[EPA-R03-OAR-2014-0525; FRL-9921-32-Region 3]

Approval and Promulgation of Air Quality Implementation Plans; Pennsylvania; Redesignation of the Harrisburg-Lebanon-Carlisle-York Nonattainment Areas to Attainment for the 1997 Annual and the 2006 24-Hour Fine Particulate Matter Standard; Correction

AGENCY: Environmental Protection Agency.

ACTION: Final rule; correcting amendment.

SUMMARY: This document corrects errors in the rule language of a final rule pertaining to the Commonwealth of Pennsylvania's requests to redesignate to attainment the Harrisburg-Lebanon-Carlisle and York nonattainment areas for the 1997 annual fine particulate matter (PM2.5) national ambient air quality standard (NAAQS) and the Harrisburg-Lebanon-Carlisle-York 2006 24-hour PM2.5 NAAQS nonattainment area, which was published in the Federal Register on Tuesday, December 8, 2014 (79 FR 72552).

DATES: This document is effective on February 11, 2015.

FOR FURTHER INFORMATION CONTACT: Rose Quinto, (215) 814-2182 or by email at quinto.rose@.epa.gov.

SUPPLEMENTARY INFORMATION: On December 8, 2014, (79 FR 72552), the Environmental Protection Agency (EPA) published a final rulemaking action announcing the approval of Pennsylvania's requests to redesignate to attainment the Harrisburg-Lebanon-Carlisle and York nonattainment areas for the 1997 annual PM2.5 NAAQS and the Harrisburg-Lebanon-Carlisle-York 2006 24-hour PM2.5 NAAQS nonattainment area.

Need for Correction

As published, the final redesignation contains errors. EPA inadvertently added the word “Moderate” in the tables for the 1997 annual and the 2006 24-hour PM2.5 NAAQS. The intent of the final rule was to redesignate the Areas to attainment. Moderate is a classification for nonattainment areas. This action corrects the tables of 40 CFR part 81 for Pennsylvania's 1997 annual and 2006 24-hour PM2.5 NAAQS.

List of Subjects in 40 CFR Part 81

Air pollution, National Parks, Wilderness areas.

Dated: January 28, 2015.
William C. Early,
Acting Regional Administrator, EPA Region III.

Accordingly, 40 CFR part 81 is corrected by making the following correcting amendments:

PART 81—DESIGNATION OF AREAS FOR AIR QUALITY PLANNING PURPOSES

1. The authority citation for part 81 continues to read as follows:

Authority: 42 U.S.C. 7401 et seq.

2. In § 81.339:

a. The 1997 Annual PM2.5 NAAQS table is amended by revising the entries for the Harrisburg-Lebanon-Carlisle, PA and York, PA Areas.

b. The 2006 24-Hour PM2.5 NAAQS table is amended by revising the entry for the Harrisburg-Lebanon-Carlisle-York, PA Area.

The revisions read as follows:

§ 81.339 Pennsylvania.

* * * * *

Pennsylvania—1997 Annual PM2.5 NAAQS
[Primary and secondary]
Designated area | Designation ᵃ: Date ¹ | Designation ᵃ: Type | Classification: Date ² | Classification: Type
Harrisburg-Lebanon-Carlisle, PA:
Cumberland County | 12/08/14 | Attainment
Dauphin County | 12/08/14 | Attainment
Lebanon County | 12/08/14 | Attainment
* * * * * * *
York, PA:
York County | 12/08/14 | Attainment
* * * * * * *
ᵃ Includes Indian Country located in each county or area, except as otherwise specified.
¹ This date is 90 days after January 5, 2005, unless otherwise noted.
² This date is July 2, 2014, unless otherwise noted.

* * * * *

Pennsylvania—2006 24-Hour PM2.5 NAAQS
[Primary and secondary]
Designated area | Designation ᵃ: Date ¹ | Designation ᵃ: Type | Classification: Date ² | Classification: Type
* * * * * * *
Harrisburg-Lebanon-Carlisle-York, PA:
Cumberland County | 12/08/14 | Attainment
Dauphin County | 12/08/14 | Attainment
Lebanon County | 12/08/14 | Attainment
York County | 12/08/14 | Attainment
* * * * * * *
ᵃ Includes Indian County located in each county or area, except as otherwise specified.
¹ This date is 30 days after November 13, 2009, unless otherwise noted.
² This date is July 2, 2014, unless otherwise noted.

* * * * *

[FR Doc. 2015-02857 Filed 2-10-15; 8:45 am]

BILLING CODE 6560-50-P